DEPARTMENT OF TRANSPORTATION

Federal Aviation Administration

14 CFR Part 71

[Docket No. FAA-2008-0005; Airspace Docket No. 08-AAL-1]

Revision of Class E Airspace; Ruby, AK

AGENCY: Federal Aviation Administration (FAA), DOT.

ACTION: Final rule; correction.

SUMMARY: This action corrects an error in the airspace description contained in a Final Rule that was published in the Federal Register on Monday, November 10, 2008 (73 FR 66515). Airspace Docket No. 08-AAL-1.

DATES: Effective Date: 0901 UTC, January 15, 2009.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

History

Federal Register Docket No. FAA-2008-0005, Airspace Docket No. 08-AAL-1, published on Monday, November 10, 2008 (73 FR 66515), revised Class E airspace at Ruby, AK. An error was discovered in the airspace description defining the lateral confines of the Class E (700 foot) description. The controlled airspace extending to the northeast along the 051° bearing from the airport will only cover 4 miles either side of the 051° bearing (instead of 8 miles), and will only cover 50% of what was described. This action corrects that error.

Correction to Final Rule

Accordingly, pursuant to the authority delegated to me, the airspace description of the Class E airspace published in the Federal Register, Monday, November 10, 2008 (73 FR 66515), FAA Docket No. 2008-0005, Airspace Docket No. 08-AAL-1, page 66516, column 2 is corrected as follows:

§ 71.1 [Corrected]

* * * * *

AAL AK E5 Ruby, AK [Corrected]

Ruby, Ruby Airport, AK

(Lat. 64°43′38″ N., long. 155°28′11″ W.)

That airspace extending upward from 700 feet above the surface within a 6.4-mile radius of the Ruby Airport, AK, and within 4 miles either side of the 051° bearing from the Ruby Airport, AK, extending from the 6.4-mile radius to 20.3 miles northeast of the Ruby Airport, AK; and that airspace extending upward from 1,200 feet above the surface within a 70-mile radius of the Ruby Airport, AK.

* * * * *

Issued in Anchorage, AK, on December 4, 2008.
Anthony M. Wylie
Manager, Alaska Flight Services Information Area Group.

[FR Doc. E8-30170 Filed 12-19-08; 8:45 am]

BILLING CODE 4910-13-P